DEPARTMENT OF TRANSPORTATION

National Highway Traffic Safety Administration

49 CFR Part 574

[Docket No. NHTSA-2006-25311]

Tire Identification and Recordkeeping; Correction

AGENCY: National Highway Traffic Safety Administration (NHTSA), Department of Transportation.

ACTION: Correcting amendment.

SUMMARY: In order to facilitate notification to consumers of defective or nonconforming tires, our tire recordkeeping regulation sets forth, among other things, the methods by which independent tire dealers and distributors record, on standard registration forms, their names and addresses and the identification number of the tires sold to consumers, and provide these forms to the consumers for reporting their names to the tire manufacturers. One of the figures related to tire registration forms had been inadvertently deleted through an administrative error. This document corrects this inadvertent removal.

DATES: Effective Date: This correcting amendment is effective August 11, 2006.

FOR FURTHER INFORMATION CONTACT: Mr. Eric Stas, Attorney-Advisor, Office of the Chief Counsel, NCC-112, 400 Seventh Street, SW., Washington, DC 20590. Telephone: (202) 366-2992. Fax: (202) 366-3820.

SUPPLEMENTARY INFORMATION: In order to facilitate notification to purchasers of defective or nonconforming tires, 49 CFR Part 574 sets forth, among other things, the methods by which independent tire dealers and distributors record, on standard registration forms, their names and addresses and the identification number of the tires sold to consumers and provide these forms to the consumers so that they report their names to the tire manufacturers. Figure 3(b), depicting the “address side” of the registration form, was inadvertently deleted. This document corrects this inadvertent deletion.

The agency examined the amendments to the Federal Register notices affecting 49 CFR Part 574 and concluded that Figure 3(b) had been inadvertently removed from the CFR. Without Figure 3(b), the tire registration form examples are incomplete. This document corrects the CFR by adding the inadvertently removed Figure 3(b) to 49 CFR 574.7.

This correction will not impose or relax any substantive requirements or burdens on manufacturers. Therefore, NHTSA finds for good cause that any notice and opportunity for comment on these correcting amendments are not necessary.

List of Subjects in 49 CFR Part 574

Labeling, Motor vehicle safety, Reporting and recordkeeping requirements, Tires.

Accordingly, 49 CFR part 574 is corrected by making the following correcting amendment:

PART 574—TIRE IDENTIFICATION AND RECORDKEEPING

1. The authority citation for part 574 continues to read as follows:

Authority: 49 U.S.C. 322, 30111, 30115, 30117, and 30166; delegation of authority at 49 CFR 1.50.

2. In § 574.7, add Figure 3(b) after Figure 3(a) as follows:

§ 574.7 Information requirements—new tire manufacturers, new tire brand name owners.

* * * * *

(d) * * *

* * * * *

Issued: July 6, 2006.
Stephen R. Kratzke,
Associate Administrator for Rulemaking.

[FR Doc. E6-10893 Filed 7-11-06; 8:45 am]

BILLING CODE 4910-59-P